DEPARTMENT OF AGRICULTURE

National Institute of Food and Agriculture

Notice of Intent To Request an Extension of a Currently Approved Information Collection

AGENCY: National Institute of Food and Agriculture, USDA.

ACTION: Notice and request for comments.

SUMMARY: In accordance with the Paperwork Reduction Act of 1995 and Office of Management and Budget (OMB) regulations (5 CFR part 1320) which implement the Paperwork Reduction Act of 1995 (44 U.S.C. Chapter 35), this notice announces the intention of the National Institute of Food and Agriculture (NIFA) to request an extension for a currently approved information collection (OMB No. 0524-0026) for Form NIFA-666, “Organizational Information.”

DATES: Submit comments on or before April 29, 2013.

ADDRESSES: You may submit comments, identified by NIFA-2013-0008, by any of the following methods:

Federal eRulemaking Portal: http://www.regulations.gov. Follow the instructions for submitting comments.

Email: rmartin@NIFA.usda.gov. Include NIFA-2013-0008 in the subject line of the message.

Fax: 202-720-0857.

Mail: Written comments concerning this notice and requests for copies of the information collection may be submitted to Robert Martin, Records Officer, Information Policy, Planning and Training; Mail: NIFA/USDA; Mail Stop 2216; 1400 Independence Avenue SW.; Washington, DC 20250-2299; Hand Delivery/Courier: 800 9th Street SW., Waterfront Centre, Room 4206, Washington, DC 20024.

Instructions: All submissions received must include the agency name and NIFA-2013-0008. All comments received will be posted without change to http://www.regulations.gov, including any personal information provided.

FOR FURTHER INFORMATION CONTACT: Robert Martin, Records Officer, Information Policy, Planning and Training; Office of Information Technology; NIFA; USDA; Email: rmartin@nifa.NIFA.usda.gov.

SUPPLEMENTARY INFORMATION: Title: Organizational Information.

OMB Number: 0524-0026.

Expiration Date of Current Approval: April 30, 2013.

Type of Request: Intent to extend a currently approved information collection for three years.

Abstract: NIFA has primary responsibility for providing linkages between the Federal and State components of a broad-based, national agricultural research, extension, and education system. Focused on national issues, its purpose is to represent the Secretary of Agriculture and carry out the intent of Congress by administering formula and grant funds appropriated for agricultural research, extension, and education. Before awards can be made, certain information is required from applicants to effectively assess the potential recipient's capacity to manage Federal funds.

Need for the Information: Form NIFA-666 “Organizational Information”: Enables NIFA to determine that applicants recommended for awards will be responsible recipients of Federal funds. The information pertains to organizational management and financial matters of the potential grantee. This form and the documents which the applicant attaches to it provide NIFA with information such as the legal name of grantee, certification that the organization has the legal authority to accept Federal funding, identification and signatures of the key officials of the organization, the organization's practices in regard to compensation rates and benefits of employees, insurance for equipment, subcontracting with other organizations, etc., as well as the financial condition of the organization and certification that the organization is not delinquent on Federal taxes. All of this information is considered by NIFA prior to award to determine whether the grantee is both managerially and fiscally responsible. This information is submitted to NIFA on a one-time basis and updated accordingly. If sufficient changes occur within the organization, the grantee submits revised information.

Estimate of the Burden: NIFA estimates the number of responses for the Form NIFA-666 will be 150 with an estimated response time of 6.3 hours per form, representing a total annual burden of 945 hours for this form. These estimates are based on a survey of grantees that were approved for grant awards.

They were asked to give an estimate of the time it took them to complete each form. This estimate was to include such things as: (1) Reviewing the instructions; (2) searching existing data sources; (3) gathering and maintaining the data needed; and (4) actual completion of the forms. The average time it took each respondent was calculated from their responses.

Comments: Comments are invited on: (a) Whether the proposed collection of information is necessary for the proper performance of the functions of the Agency, including whether the information will have a practical utility; (b) the accuracy of the Agency's estimate of the burden of the proposed collection of information, including the validity of the methodology and assumptions used; (c) ways to enhance the quality, utility, and clarity of the information to be collected; and (d) ways to minimize the burden of the information collection on those who are to respond, including through the use of appropriate automated, electronic, mechanical, or other technological collection techniques or other forms of information technology.

Done at Washington, DC, this 22nd day of February 2013.
Catherine E. Woteki,
Under Secretary, REE, Chief Scientist, USDA.

[FR Doc. 2013-04670 Filed 2-26-13; 8:45 am]

BILLING CODE 3410-22-P